DEPARTMENT OF LABOR

Employment And Training Administration

Proposed Information Collection Request Submitted for Public Comment and Recommendations; Disaster Unemployment Assistance Handbook and Operating Forms

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration (ETA) is soliciting comments concerning the proposed extension of the Disaster Unemployment Assistance (DUA) Handbook and Program Operating forms, including the ETA 90-2, Disaster Payment Activities under the Stafford Disaster Relief Act. A copy of the proposed information collection request (ICR) can be obtained by contacting the office listed below in the addressee section of this notice.

DATES: Submit comments on or before January 4, 2004.

ADDRESSES: Send comments to Miriam Thompson, Office of Workforce Security, Division of Unemployment Insurance Operations, U.S. Department of Labor, Room S4231, 200 Constitution Avenue, NW., Washington, DC 20210, telephone: 202-693-3226 (this is not a toll-free number) or thompson.miriam@dol.gov.

SUPPLEMENTARY INFORMATION:

I. Background

Public Law 100-707 (Sections 410 and 423) provides for benefit assistance to “any individual unemployed as a result of a major disaster.” The President is directed by the Act to provide DUA through agreements with states that in his judgment have an adequate system for administering DUA. Through agreements between the states and the Secretary of Labor, act as agents of the Secretary for the purpose of providing assistance to applicants in the various states who are unemployed as a result of a major disaster. Without the data obtained from these reports, ETA would have insufficient information about the program as it is administered by the states.

II. Desired Focus of Comments

Currently, the Department of Labor is soliciting comments concerning the proposed extension for the collection of the DUA Handbook and Program Operating forms. Comments are requested to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request (ICR) can be obtained by contacting the office listed above in the addressee section of this notice.

III. Current Actions

Type of Review: Extension without change of currently approved collection.

Agency: Employment and Training Administration.

Title: Employment and Training Administration (ETA) Disaster Unemployment Assistance (DUA) Handbook and Program Operating Forms, Including the ETA 90-2, Disaster Payment Activities under the Stafford Disaster Relief Act.

OMB Number: 1205-0051.

Agency Number(s): DUA Handbook and Program Operating Forms, including the ETA 90-2.

Affected Public: Individuals, State Governments.

Cite/Reference | Total respondents | Frequency | Total responses | Average time per response | Burden hours
ETA 90-2 | 50 | 6 | 300 | 1/6 | 50
Initial Application | 11,000® | 1 | 11,000 | 1/6 | 1,833
Supplemental to Initial Application (self-empl.) | 3,800® | 1 | 3,800 | 1/6 | 633
Weekly Claim | 11,000® | * 6 | 66,000 | 1/12 | 5,500
Notice of Overpayment | 235 | 1 | 235 | 1/4 | 59
Cost/Expense Report | 50 | ** | 75 | 1/4 | 19
Final Report | 50 | 1 | 50 | 1 | 50
Miscellaneous Recordkeeping | 50 | n/a | 81,335 | 1/40 | 2,033
Totals | 26,235 |  | 162,795 |  | 10,177

Total Burden Cost (capital/startup): $0.00.

Total Burden Cost (operating/maintaining): $ 0.00.

Comments submitted in response to this notice will be summarized and/or included in the request for the Office of Management and Budget's approval of the information collection request; they will also become a matter of public record.

Cheryl Atkinson,
Administrator, Office of Workforce Security.

[FR Doc. E4-3030 Filed 11-4-04; 8:45 am]

BILLING CODE 4510-30-P